DEPARTMENT OF TRANSPORTATION

Federal Motor Carrier Safety Administration

[Docket No. FMCSA-2011-0366]

Qualification of Drivers; Exemption Applications; Vision

AGENCY: Federal Motor Carrier Safety Administration (FMCSA), DOT.

ACTION: Notice of applications for exemptions; request for comments.

SUMMARY: FMCSA announces receipt of applications from twelve individuals for exemption from the vision requirement in the Federal Motor Carrier Safety Regulations. If granted, the exemptions would enable these individuals to qualify as drivers of commercial motor vehicles (CMVs) in interstate commerce without meeting the Federal vision requirement.

DATES: Comments must be received on or before March 7, 2012.

ADDRESSES: You may submit comments bearing the Federal Docket Management System (FDMS) Docket No. FMCSA-2011-0366 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC between 9 a.m. and 5 p.m., Monday through Friday, except Federal holidays.

• Fax: 1-(202) 493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Elaine M. Papp, Chief, Medical Program Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The twelve individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Eugenio V. Bermudez

Mr. Bermudez, age 33, has had amblyopia in his right eye since childhood. The best corrected visual acuity in right eye is 20/80 and in his left eye, 20/20. Following an examination in 2011, his ophthalmologist noted, “I believe that he is capable of performing the driving tasks required to operate a commercial vehicle.” Mr. Bermudez reported that he has driven straight trucks for 3½ years, accumulating 175,000 miles. He holds a Class A Commercial Driver's License (CDL) from Massachusetts. His driving record for the last 3 years shows no crashes and no convictions for moving violations in a Commercial Motor Vehicle (CMV).

John A. Carroll, Jr.

Mr. Carroll, 48, has had a retinal artery occlusion in his right eye sustained ten years ago. The best corrected visual acuity in right eye is 20/80 and in his left eye, 20/20. Following an examination in 2011, his optometrist noted, “I think Mr. John Carroll's vision is sufficient to perform commercial driving.” Mr. Carroll reported that he has driven straight trucks for 6 years, accumulating 180,000 miles and tractor-trailer combinations for 26 years, accumulating 780,000 miles. He holds a Class D operator's license from Alabama. His driving record for the last 3 years shows no crashes and no convictions for moving violations in a CMV.

Mark W. Crocker

Mr. Crocker, 53, has had glaucoma in his right eye since 2007. The best corrected visual acuity in right eye is 20/400 and in his left eye, 20/20. Following an examination in 2011, his optometrist noted, “I feel his vision is sufficient to operate a commercial vehicle at this time.” Mr. Crocker reported that he has driven tractor-trailer combinations for 34 years, accumulating 3.4 million miles. He holds a Class A CDL from Tennessee. His driving record for the last 3 years shows no crashes and no convictions for moving violations in a CMV.

Johnny Dillard

Mr. Dillard, 50, has had a prosthetic right eye due to a traumatic injury sustained in 1974. The best corrected visual acuity in left eye, 20/20. Following an examination in 2011, his optometrist noted, “At this time, I consider Mr. Dillard to demonstrate sufficient vision to perform the driving tasks required to operate a commercial vehicle.” Mr. Dillard reported that he has driven straight trucks for 31 years, accumulating 620,000 miles and tractor-trailer combinations for 31 years, accumulating 1.24 million miles. He holds a Class A CDL from South Carolina. His driving record for the last 3 years shows no crashes and no convictions for moving violations in a CMV.

Keith J. Haaf

Mr. Haaf, 52, has had a prosthetic left eye due to a traumatic injury sustained in 1989. The best corrected visual acuity in right eye is 20/20. Following an examination in 2011, his ophthalmologist noted, “We do feel that the patient has sufficient vision to perform the driving tasks required to operate a commercial vehicle.” Mr. Haaf reported that he has driven straight trucks for 23 years, accumulating 1.6 million miles. He holds a Class B CDL from Virginia. His driving record for the last 3 years shows no crashes and no convictions for moving violations in a CMV.

Edward M. Jurek

Mr. Jurek, 45, has had macular scar in his right eye due to a traumatic injury sustained when he was 8 years old. The best corrected visual acuity in right eye is 20/200 and in his left eye, 20/20. Following an examination in 2011, his optometrist noted, “In my opinion Mr. Jurek has sufficient vision to perform the driving tasks required to operate a commercial vehicle; as he has driven a commercial vehicle for many years without a problem.” Mr. Jurek reported that he has driven straight trucks for 17 years, accumulating 153,000 miles and tractor-trailer combinations for 17 years, accumulating 153,000 miles. He holds a Class A CDL from New York. His driving record for the last 3 years shows no crashes and no convictions for moving violations in a CMV.

Allen J. Kunze

Mr. Kunze, 64, has had complete loss of vision in his left eye due to a traumatic injury sustained in 2008. The best corrected visual acuity in right eye is 20/20 and in his left eye, finger-count vision. Following an examination in 2011, his optometrist noted, “Mr. Kunez does have sufficient vision to operate a commercial vehicle.” Mr. Kunez reported that he has driven straight trucks for 54 years, accumulating 1.35 million miles and tractor-trailer combinations for 17 years, accumulating 595,000 miles. He holds a Class A CDL from North Dakota. His driving record for the last 3 years shows no crashes and no convictions for moving violations in a CMV.

Jack W. Murphy, Jr.

Mr. Murphy, 56, has had a retinal artery occlusion in his left eye sustained in 2006. The best corrected visual acuity in right eye is 20/15 and in his left eye, 20/200. Mr. Murphy reported that he has driven tractor-trailer combinations for 26 years, accumulating 2.6 million miles. He holds a Class A CDL from Ohio. His driving record for the last 3 years shows one crash in a CMV, for which he was cited for an unsecured load, and no other convictions for moving violation in a CMV.

Mark A. Smalls

Mr. Smalls, 41, has had a prosthetic right eye due to a traumatic injury sustained 14 years ago. The best corrected visual acuity in left eye, 20/20. Following an examination in 2011, his optometrist noted, “In my opinion, I feel Mark has sufficient visual activity and visual field to operate a commercial motor vehicle.” Mr. Smalls reported that he has driven straight trucks for 8 years, accumulating 275,600 miles and tractor-trailer combinations for 2 years, accumulating 68,900 miles. He holds a Class A CDL from Georgia. His driving record for the last 3 years shows one crash for which he was cited for having an unsecure load while in a CMV.

Glenn R. Theis

Mr. Theis, 42, has had amblyopia in his right eye since childhood. The best corrected visual acuity in right eye is 20/200 and in his left eye, 20/25. Following an examination in 2011, his optometrist noted, “It is my opinion that he has adapted to his amblyopiua or reduced vision in his right eye and can safely perform driving tasks required to operate a commercial motor vehicle.” Mr. Theis reported that he has driven straight trucks for 4 years, accumulating 135,200 miles. He holds a Class D operator's license from Minnesota. His driving record for the last 3 years shows no crashes and no convictions for moving violations in a CMV.

Peter A. Troyan

Mr. Troyan, 30, has had amblyopia in his left eye since childhood. The best corrected visual acuity in right eye is 20/20 and in his left eye, 20/200. Following an examination in 2011, his optometrist noted, “Patient has good vision field and 20/20 correction OU, good for driving tasks of commercial vehicles.” Mr. Troyan reported that he has driven straight trucks for 8 years, accumulating 8,000 miles and tractor-trailer combinations for 5 years, accumulating 175,000 miles. He holds a Class A CDL from Michigan. His driving record for the last 3 years shows no crashes and no convictions for moving violations in a CMV.

Gary Vines

Mr. Vines, 47, has had complete loss of vision in his left eye due to a traumatic injury sustained 30 years ago. The best corrected visual acuity in right eye is 20/20 and in his left eye, hand motion vision. Following an examination in 2011, his ophthalmologist noted, “He certainly has excellent right eye monocular vision that should be sufficient to operate that sort of vehicle.” Mr. Vines reported that he has driven straight trucks for 35 years, accumulating 2.8 million miles and tractor-trailer combinations for 20 years, accumulating 1.5 million miles. He holds a Class D operator's license from Alabama. His driving record for the last 3 years shows no crashes and no convictions for moving violations in a CMV.

Request for Comments

In accordance with 49 U.S.C. 31136(e) and 31315, FMCSA requests public comment from all interested persons on the exemption petitions described in this notice. The Agency will consider all comments received before the close of business March 7, 2012. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: January 20, 2012.
Larry W. Minor,
Associate Administrator for Policy.

[FR Doc. 2012-2509 Filed 2-3-12; 8:45 am]

BILLING CODE 4910-EX-P